DEPARTMENT OF COMMERCE

National Oceanic and Atmospheric Administration

[RTID 0648-XD488]

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's Summer Flounder, Scup, and Black Sea Bass Monitoring Committee will hold a public meeting.

DATES: The meeting will be held on Monday, November 13, 2023, starting at 1 p.m. and continuing through 2:30 p.m. on Tuesday, November 14, 2023. For agenda details, see SUPPLEMENTARY INFORMATION.

ADDRESSES: This will be an in-person meeting with a virtual option. Monitoring Committee members, other invited meeting participants, and members of the public will have the option to participate in person at the Loews Philadelphia Hotel, 1200 Market Street, Philadelphia, PA, or virtually via Webex webinar. Webinar connection instructions and briefing materials will be available at: www.mafmc.org/ssc.

Council address: Mid-Atlantic Fishery Management Council, 800 N State Street, Suite 201, Dover, DE 19901; telephone: (302) 674-2331; website: www.mafmc.org.

FOR FURTHER INFORMATION CONTACT: Christopher M. Moore, Ph.D., Executive Director, Mid-Atlantic Fishery Management Council, telephone: (302) 526-5255.

SUPPLEMENTARY INFORMATION: The Summer Flounder, Scup, and Black Sea Bass Monitoring Committee will meet to discuss 2024-2025 recreational management measures for summer flounder and scup and 2024 recreational management measures for black sea bass. The Monitoring Committee will follow the process prescribed in the fishery management plan to recommend the percent change in harvest the measures should achieve for each species. The Monitoring Committee will also recommend the appropriate coastwide or federal waters recreational management measures (e.g., possession limits, fish size limits, seasons) for all three species. The Monitoring Committee will also discuss and provide recommendations on the commercial summer flounder minimum mesh regulations and exemptions (i.e., minimum mesh size regulations, Small Mesh Exemption Program, and the flynet exemption), and review any analyses conducted by staff and a contractor as well as feedback received from industry.

Special Accommodations

The meetings are physically accessible to people with disabilities. Requests for sign language interpretation or other auxiliary aid should be directed to Shelley Spedden, (302) 526-5251, at least 5 days prior to the meeting date.

Authority: 16 U.S.C. 1801 et seq.

Dated: October 23, 2023.
Rey Israel Marquez,
Acting Deputy Director, Office of Sustainable Fisheries, National Marine Fisheries Service.

[FR Doc. 2023-23683 Filed 10-25-23; 8:45 am]

BILLING CODE 3510-22-P